DEPARTMENT OF TRANSPORTATION

Surface Transportation Board

[STB Docket No. AB-295 (Sub-No. 7X); STB Docket No. AB-55 (Sub-No. 698X) ¹]

The Indiana Rail Road Company—Abandonment Exemption—in Martin and Lawrence Counties, IN; CSX Transportation, Inc.—Discontinuance of Service Exemption—in Clark, Floyd, Lawrence, Orange, and Washington Counties, IN

¹ These proceedings are not consolidated; they are being handled together for administrative convenience.

AGENCY: Surface Transportation Board.

ACTION: Notice of public meeting.

SUMMARY: Staff members of the Surface Transportation Board will hold a public meeting concerning the abandonment and discontinuance petitions for exemption in the respective above-titled dockets. The purpose of the meeting is to allow interested persons to comment on the petitions for exemption.

Date/Location: The public meeting will take place on March 5, 2010, beginning at 10 a.m., in the Community/Meeting Room of the Washington County Annex, 806 Martinsburg Road, Salem, IN.

FOR FURTHER INFORMATION CONTACT: Julia Farr, (202) 245-0359. [Assistance for the hearing impaired is available through the Federal Information Relay Service (FIRS) at 1-800-877-8339.]

SUPPLEMENTARY INFORMATION: A decision in STB Docket No. AB-295 (Sub-No. 7X), served on February 16, 2010, provided that a public meeting conducted by Board staff will be held to permit interested persons to express their views about the petition under 49 U.S.C. 10502 for exemption from the provisions of 49 U.S.C. 10903 filed by The Indiana Rail Road Company, requesting permission to abandon a 21.15-mile line of railroad extending from milepost 241.35 east of Crane, IN, to milepost 262.50 in Bedford, IN (Crane-Bedford Line), and a track extending from the Crane-Bedford Line at approximately milepost 262.40 and proceeding in an open counter-clockwise loop for approximately 1.65 miles (Bedford Industrial Track).

Letters of protest and requests for public hearing have been filed by: The Honorable Baron Hill, United States Congressman; Eric Koch, Indiana State Representative; Shawna Girgis, City of Bedford Mayor; Dan Terrell, City of Mitchell Mayor; Richard Wilson, on behalf of Radius Indiana; Citizens Against Rails-to-Trails; and several landowners. Correspondence expressing concern over the potential loss of rail service and, in one instance, requesting a hearing, has also been submitted by: Brent Steele, Indiana State Senator; Sandy Blanton, Indiana State Representative; David Bower, City of Salem Mayor; Douglas England, City of New Albany Mayor; David Branneman, Lawrence County Tourism Commission Executive Director; Gene McCracken, Lawrence County Economic Growth Council Executive Director; and Adele Bowden-Purlee, Bedford Area Chamber of Commerce President.²

² Correspondence submitted in response to STB Docket No. AB-295 (Sub-No. 7X) has been placed in the public docket even if it has not been served on all parties. However, pursuant to 49 CFR 1104.12, every document filed with the Board should include a certificate showing simultaneous service on all parties of record, if the filer intends for the document to be considered in the Board's evaluation of the merits of the proceeding.

Additionally, in STB Docket No. AB-55 (Sub-No. 698X), CSX Transportation, Inc.—Discontinuance of Service Exemption—in Clark, Floyd, Lawrence, Orange, and Washington Counties, IN, a petition for exemption was filed by CSX Transportation, Inc., to discontinue service over a line of railroad from a point south of Bedford to New Albany, IN, a distance of 62.3 miles. A number of the parties who have filed protests or comments in STB Docket No. AB-295 (Sub-No. 7X) reference in their submissions the impact of both that proposed abandonment as well as the proposed discontinuance in STB Docket No. AB-55 (Sub-No. 698X). While the two proceedings are independent matters that will be treated separately by the Board, participants may discuss both proceedings at the public meeting.

During the public meeting, staff from the Board's Office of Proceedings will hear comments regarding both the abandonment proceeding and the discontinuance proceeding. The meeting will continue until all interested persons or parties have had an opportunity to speak. Persons wishing to speak should place their names on the list of speakers upon arrival at the Washington County Annex. A court reporter will transcribe the meeting and prepare a transcript that will be included in the public record of each proceeding.

All decisions, notices, and filings in this proceeding are available on the Board's Web site at http://www.stb.dot.gov. A transcript of the meeting will also be posted on the Board's Web site.

This action will not significantly affect either the quality of the human environment or the conservation of energy resources.

Dated: February 18, 2010.
By the Board, Rachel D. Campbell, Director, Office of Proceedings.
Andrea Pope-Matheson,
Clearance Clerk.

[FR Doc. 2010-3576 Filed 2-23-10; 8:45 am]

BILLING CODE 4915-01-P